DEPARTMENT OF HEALTH AND HUMAN SERVICES

Centers for Disease Control and Prevention

[60Day-02-39]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: National Surveillance of Dialysis-Associated Diseases (0920-0033)—Extension—National Center for Infectious Diseases (NCID), Centers for Disease Control and Prevention (CDC). The Division of Healthcare Quality Promotion (DHQP; formerly Hospital Infections Program), is proposing a extension of a yearly survey of dialysis practices and dialysis-associated diseases at U.S. outpatient hemodialysis centers. The rehabilitation of individuals in the United States who suffer from chronic renal failure has been identified as an important national priority; since 1973, chronic hemodialysis patients have been provided financial support by the Federal Government. DHQP and the Division of Viral Hepatitis have responsibility for formulating strategies for the control of hepatitis, bacteremia, and other hemodialysis-associated diseases.

In order to devise such control measures, it is necessary to determine the extent to which the incidence of these dialysis-associated diseases changes over time. This request is to continue surveillance activities among chronic hemodialysis centers nationwide. In addition, once control measures are recommended it is essential that such measures be monitored to determine their effectiveness. The survey is conducted once a year by a mailing to all chronic hemodialysis centers licensed by the Health Care Financing Administration. The types of dialysis practices surveyed include the use of hepatitis B vaccine in patients and staff members, the types of vascular access and dialyzers used, whether certain dialysis items are disinfected for reuse, and whether the dialysis center has any policy for insuring judicious use of antimicrobial agents. Among dialysis-associated diseases, the survey includes hepatitis B virus infection, antibody to hepatitis C virus, antibody to human immunodeficiency virus, and vancomycin-resistant enterococci. There are no costs to respondents.

Respondents | Number of respondents | Number of responses/ respondent | Avg. burden/ response (in hours) | Total burden (in hours)
Chronic Hemodialysis Centers | 3,800 | 1 | 1 | 3,800
Total |  |  |  | 3,800

Dated: April 1, 2002.
Nancy E. Cheal,
Acting Associate Director for Policy, Planning and Evaluation, Centers for Disease Control and Prevention.

[FR Doc. 02-8593 Filed 4-9-02; 8:45 am]

BILLING CODE 4163-18-P